INTERNATIONAL TRADE COMMISSION

[USITC SE-11-025]

Government in the Sunshine Act Meeting Notice

AGENCY HOLDING THE MEETING: United States International Trade Commission.

TIME AND DATE: September 14, 2011 at 2 p.m.

PLACE: Room 101, 500 E Street SW., Washington, DC 20436. Telephone: (202) 205-2000.

STATUS: Open to the public.

Matters To Be Considered

1. Agendas for future meetings: none.

2. Minutes.

3. Ratification List.

4. Vote in Inv. Nos. 701-TA-318 and 731-TA-538 and 561 (Third Review)(Sulfanilic Acid from China and India). The Commission is currently scheduled to transmit its determinations and Commissioners' opinions to the Secretary of Commerce on or before September 26, 2011.

5. Outstanding action jackets: none.

In accordance with Commission policy, subject matter listed above, not disposed of at the scheduled meeting, may be carried over to the agenda of the following meeting.

Issued: September 7, 2011.
By order of the Commission.
James R. Holbein,
Secretary to the Commission.

[FR Doc. 2011-23342 Filed 9-8-11; 4:15 pm]

BILLING CODE 7020-02-P